DEPARTMENT OF TRANSPORTATION

Federal Aviation Administration

[Policy Statement PS-ACE100-2002-002]

Policy Statement PS-ACE100-2002-002, Installation Approval of Multi-Function Displays Using the Approved Model List (AML) Supplemental Type Certification (STC) Process

AGENCY: Federal Aviation Administration (FAA), DOT.

ACTION: Notice of issuance of policy statement.

SUMMARY: This notice announces the issuance of Policy Statement PS-ACE100-2002-002, Installation Approval of Multi-Function Displays Using the Approved Model List (AML) Supplemental Type Certification (STC) Process. This policy encourages use of the Approved Model List Supplemental Type Certification Process for installation approval of multi-function displays.

DATES: Policy Statement PS-ACE100-2002-002 was issued by the Manager, Small Airplane Directorate, Aircraft Certification Service, ACE-100, on July 30, 2002.

How to Obtain Copies: A paper copy of Policy Statement PS-ACE100-2002-002 may be obtained by contacting Barry Ballenger, Aerospace Engineer, FAA, Small Airplane Directorate, Standards Office, ACE-110, 901 Locust, Room 301, Kansas City, Missouri 64106; telephone: (816) 329-4152 or by faxing your request to (816) 329-4149. The policy will also be available on the Internet at www.faa.gov/certification/aircraft/small_airplanes_advisory.htm.

Issued in Kansas City, Missouri, on August 7, 2002.
Michael Gallagher,
Manager, Small Airplane Directorate, Aircraft Certification Service.

[FR Doc. 02-21178 Filed 8-19-02; 8:45 am]

BILLING CODE 4910-13-P